DEPARTMENT OF HEALTH AND HUMAN SERVICES

Centers for Disease Control and Prevention

Task Force on Community Preventive Services

In accordance with section 10(a)(2) of the Federal Advisory Committee Act (Pub. L. 92-463), the Centers for Disease Control and Prevention (CDC) announces the following meeting:

Name: Task Force on Community Preventive Services.

Times and Dates: 8 a.m.-6 p.m. EDT, June 13, 2007; 8 a.m.-1 p.m. EDT, June 14, 2007.

Place: Centers for Disease Control and Prevention, Roybal Building 19, 1600 Clifton Road, Atlanta, Georgia 30333.

Status: Open to the public, limited only by the space available.

Purpose: The mission of the Task Force is to develop and publish the Guide to Community Preventive Services (Community Guide), which consists of systematic reviews of the best available scientific evidence and associated recommendations regarding and what works in the delivery of essential public health services.

Topics include: Excessive alcohol consumption; adolescent health; worksite health promotion; asthma; controlling obesity; updating existing Community Guide reviews; and dissemination activities and projects in which the Community Guide is used.

Agenda items are subject to change as priorities dictate.

Persons interested in reserving a space for this meeting should call Tony Pearson-Clarke at 404.498.0972 by close of business on June 6, 2007.

Contact Person for Additional Information: Tony Pearson-Clarke, Community Guide Branch, Coordinating Center for Health Information and Service, National Center for Health Marking, Division of Health Communication and Marketing, 1600 Clifton Road, M/S E-69, Atlanta, GA 30333, telephone: 404.498.0972.

Dated: May 18, 2007.
James D. Seligman,
Chief Information Officer, Centers for Disease Control and Prevention.

[FR Doc. E7-10217 Filed 5-25-07; 8:45 am]

BILLING CODE 4163-18-P